Proclamation 10454 of September 23, 2022

National Public Lands Day, 2022

By the President of the United States of America

A Proclamation

On National Public Lands Day, we give thanks for the precious public lands that are the birthright of every American and at the heart of our national pride. From national parks to monuments, conservation areas, wildlife refuges, forests, grasslands, marine sanctuaries, reservoirs, and lakes—these lands provide endless opportunities for adventure, education, and respite. They are the ancestral homelands of Tribal Nations and Indigenous peoples—sacred sites with rich heritage. They sustain the outdoor recreation industry and strengthen our economy. They protect biodiversity, help mitigate climate change, and make communities more resilient to extreme weather events and natural disasters. On this day, we acknowledge our responsibility to make our public lands accessible to all Americans and recommit ourselves to conserving these spaces for generations to come.

Since 1994, volunteers across our country have joined together on this day to perform acts of service and help safeguard public lands. From the Colorado River to the Superior National Forest, participants clean waterways, maintain trails, reforest land, and learn about the value of conservation. The theme of this year's National Public Lands Day is “Giving Back Together,” an acknowledgement of the many ways public lands enrich our lives and a reminder of the power they have to unite us around a common appreciation for the natural world. I encourage everyone to visit blm.gov/national-public-lands-day and seek out volunteer opportunities near you.

My Administration is committed to helping protect and restore America's cherished public lands. With our Inflation Reduction Act and historic funding from the Congress, we will tackle the climate crises by investing in clean energy, securing funding for climate-friendly jobs, strengthening wildfire resilience, and combatting deforestation. We will redouble our efforts to protect old-growth forests, reestablish the boundaries of treasured monuments, and reassert protections for wildlife. Through the Civilian Climate Corps, we hope to put Americans to work conserving public lands across our Nation. And with our America the Beautiful Initiative, my Administration is working with State, local, and Tribal governments, as well as private landowners, to voluntarily conserve 30 percent of our Nation's lands and waters by 2030.

Additionally, we are working to ensure that our public lands—central to our Nation's heritage—tell the full story of America and remain accessible to all Americans. That is why I signed the Amache National Historic Site Act to acknowledge the unjust incarceration of thousands of civilians of Japanese ancestry at Amache during World War II. I restored protections for the Bears Ears, Grand Staircase-Escalante, and Northeast Canyons and Seamounts National Monuments to safeguard the ancestral homelands of Tribal Nations, preserve vital cultural and archaeological artifacts, and honor the history of those who stewarded these grounds since time immemorial. Public lands reflect our past and create opportunities for commemoration and healing for the future. It is essential that we continue to make public lands accessible to all Americans so that everyone can benefit and derive meaning from their splendor and the histories they tell.

Today, federally managed public lands will offer free admission to all visitors, and I encourage Americans to explore these locations. I also invite everyone to express gratitude to the dedicated staff and volunteers who work hard to preserve our public lands and safeguard these national treasures for all Americans to enjoy.

NOW, THEREFORE, I, JOSEPH R. BIDEN JR., President of the United States of America, by virtue of the authority vested in me by the Constitution and the laws of the United States, do hereby proclaim September 24, 2022, as National Public Lands Day. I invite all Americans to join me in a day of service for our public lands.

IN WITNESS WHEREOF, I have hereunto set my hand this twenty-third day of September, in the year of our Lord two thousand twenty-two, and of the Independence of the United States of America the two hundred and forty-seventh.

[FR Doc. 2022-21140

Filed 9-27-22; 8:45 am]

Billing code 3395-F2-P